DEPARTMENT OF THE TREASURY

Submission for OMB Review; Comment Request

January 11, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 26, 2001 to be assured of consideration.

Internal Revenue Service (IRS)

OMB Number: 1545-1534.

Regulation Project Number: REG-252936-96 Final.

Type of Review: Extension.

Title: Rewards for Information Relating to Violations of Internal Revenue Laws.

Description: The regulations relate to rewards for information that results in the detection and punishment of violations of Internal Revenue Laws.

Respondents: Individuals or households, Business or other for-profit, Not-for-profit institutions.

Estimated Number of Respondents: 10,000.

Estimated Burden Hours Per Respondent: 3 hours.

Frequency of Response: On occasion.

Estimated Total Reporting Burden: 30,000 hours.

OMB Number: 1545-1703.

Form Number: IRS Forms 12813, 12814, 12815 and 12816.

Type of Review: Extension.

Title: Return Post Card for the Community Based Outlet Participants.

Description: These post card forms are to be used by the community based outlet participants (i.e., grocery stores, credit unions, copy centers, and corporations) to order tax products. The post card will be returned to the Western Area Distribution Center for processing and order fulfillment.

Respondents: Business or other for-profit.

Estimated Number of Respondents: 18,000.

Estimated Burden Hours Per Respondent:

Form | Response time
Form 12813 | 5 minutes
Form 12814 | 5 minutes
Form 12815 | 5 minutes
Form 12816 | 5 minutes

Frequency of Response: On occasion.

Estimated Total Reporting/Recordkeeping Burden: hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports, Management Officer.

[FR Doc. 01-2224 Filed 1-24-01; 8:45 am]

BILLING CODE 4830-01-P